DEPARTMENT OF THE INTERIOR

Bureau of Land Management

[ID-210-5101-ER-D050, IDI-35183/NVN-84663]

Notice of Intent To Prepare an Environmental Impact Statement for the Proposed China Mountain Wind Project

AGENCY: Bureau of Land Management, Interior.

ACTION: Notice of intent.

SUMMARY: The Bureau of Land Management (BLM) Jarbidge Field Office, Twin Falls District, Idaho, intends to prepare an Environmental Impact Statement (EIS) for the proposed China Mountain Wind Project, located on 30,700 acres of public, state, and private lands in the Jarbidge Foothills, southwest of the town of Rogerson in Twin Falls County, Idaho, and west of the town of Jackpot in Elko County, Nevada. The EIS will analyze the potential environmental impacts of the construction and operation of a proposed wind power generation facility, associated transmission facilities, and access roads. The EIS will be prepared in accordance with the Federal Land Policy and Management Act of 1976 (FLPMA) (43 U.S.C. 1701), as amended; the National Environmental Policy Act of 1969 (NEPA) (42 U.S.C. 4321), as amended; and the Council on Environmental Quality (CEQ) regulations (40 CFR parts 1500-1508). This notice initiates the public scoping process to identify relevant issues associated with the proposed project.

DATES: The scoping period will commence with the publication of this notice. The formal scoping period will end 60 days after the publication of this notice. Comments regarding issues relative to the proposed project should be received on or before June 20, 2008 using one of the methods listed below. The BLM will announce public scoping meetings through local news media, newsletters, and the BLM Web site: http://www.blm.gov/id/st/en/fo/jarbidge.html at least 15 days prior to the first meeting.

ADDRESSES: You may submit comments by any of the following methods:

• E-mail: id_chinamtn_eis@blm.gov.

• Fax: (208) 736-2375 or (208) 735-2076.

• Mail: Project Manager, China Mountain EIS, Jarbidge Field Office, 2536 Kimberly Road, Twin Falls, Idaho 83301.

Comments can also be hand delivered to the Jarbidge Field Office at the address above. Documents pertinent to this proposal may be examined at the Jarbidge Field Office.

FOR FURTHER INFORMATION CONTACT: China Mountain Wind Project Manager, Jarbidge Field Office, 2536 Kimberly Road, Twin Falls, Idaho 83301, telephone (208) 732-7413.

SUPPLEMENTARY INFORMATION: China Mountain Wind, LLC, has submitted a right-of-way application to BLM to build a commercial wind power generation facility capable of generating up to 425 megawatts (MW) of electricity. Up to 185 wind turbines, each having a generating capacity between 2.3 and 3.0 MW, would be installed on an area covering approximately 30,700 acres in the Jarbidge Foothills, southwest of Rogerson, Idaho and west of Jackpot, Nevada. The proposed project area includes public land administered by the BLM Elko District, Wells Field Office in northeastern Nevada, public lands administered by the BLM Twin Falls District, Jarbidge Field Office, and State of Idaho and private lands in south-central Idaho.

Administrating ownership | Acres (rounded)
BLM—Jarbidge Field Office, Twin Falls District, Idaho | 15,300
BLM—Wells Field Office, Elko District, Nevada | 4,700
State of Idaho | 2,000
Private | 8,700
Total | 30,700

The turbines proposed for the project would have tower heights ranging from 200 to 250 feet and rotor diameters ranging from 250 to 300 feet. Each turbine would be set on a large concrete foundation. Turbines would be connected by underground electrical cable to one or two substations. Each substation would be sited on a 2-acre area and would consist of a graveled, fenced area containing transformer and switching equipment and an area to park utility vehicles. Up to 15 miles of new 3-phase 138 kV or 345 kV overhead transmissions circuit would be constructed from each substation to a switching station at the point of interconnection with an existing transmission line. The transmission line would be supported by single steel or double wood poles with a distance of 400 to 500 feet between poles. Other required facilities would include one or two fenced, graveled switching stations of approximately 2 acres each; one or more Operations and Maintenance buildings; approximately 40 miles of new access roads; approximately 30 miles of improved existing road; and a temporary concrete batch plant. This plant would be centrally located on the site, occupying an area of approximately 5 acres, and would operate during project construction. The proposed project would disturb up to 540 acres on a temporary basis and up to 180 acres on a permanent basis, following reclamation of construction disturbance. Approximately 60% of both the temporary and permanent impacts would be on lands under the administration of the BLM and approximately 40% would be on State of Idaho and private lands. The proposed project would operate year-round for a minimum of 30 years.

The purpose and need for the proposed project are: (1) Construct a wind power generation facility that utilizes wind energy resources in an environmentally sound manner to meet existing and future electricity demands in Idaho and Nevada. (2) Provide for renewable energy resources as encouraged by the Energy Policy Act of 2005 and consistent with the BLM's Wind Energy Development Policy, as described in the Record of Decision for the Final Programmatic EIS on Wind Energy Development on BLM-Administered Lands in the Western United States (December 2005).

Public Participation: The purpose of the public scoping process is to determine relevant issues that will influence the scope of the environmental analysis and EIS alternatives. General concerns in the following categories have been identified to date: Tribal concerns; wildlife (including birds and bats); vegetation (including noxious and invasive weeds); threatened, endangered and sensitive plants and animals, including sage grouse; public safety; public access; recreational opportunities; visual resources; cultural resources; rangeland resources; geology and soils; water quality; climate change and variability; hazardous materials; air quality; noise; fire management and socioeconomics. You may submit comments on issues in writing to the BLM at any public scoping meeting, or you may submit them to the BLM using one of the methods listed in the ADDRESSES section above. E-mailed comments, including attachments, should be provided in .doc, .pdf, .html, or .txt format. Electronic submissions in other formats or containing viruses will be rejected. Before including your address, phone number, e-mail address, or other personal identifying information in your comment, you should be aware that your entire comment—including your personal identifying information—may be made publicly available at any time. While you can ask us in your comment to withhold your personal identifying information from public review, we cannot guarantee that we will be able to do so.

The EIS process will be a collaborative effort that will consider local, regional, and national needs and concerns. The BLM will work closely with interested parties to identify the management decisions that are best suited to the needs of the public. After gathering public comments, the BLM will identify and provide rationale on those issues that will be addressed in the EIS or those issues beyond the scope of the EIS. The Draft EIS, which is scheduled for completion in early 2010, will be provided to the public for review and comment. The BLM will consider and respond to public comments on the Draft EIS in the Final EIS. The Final EIS is expected to be published in late 2010.

Dated: April 11, 2008.
Rick Vander Voet,
Jarbidge Field Office Manager, Idaho Bureau of Land Management.

[FR Doc. E8-8511 Filed 4-18-08; 8:45 am]

BILLING CODE 4310-GG-P